DEPARTMENT OF ENERGY

Federal Energy Regulatory Commission

[Docket No. ER02-1656-000]

California Independent System Operator Corporation; Notice of FERC Staff Attendance

August 9, 2005.

The Federal Energy Regulatory Commission (Commission) hereby gives notice that on August 16, 2005, members of its staff will attend a stakeholder meeting on the California Independent System Operator Corporation's (CAISO) proposed Reliability Must Run (RMR) designations for 2006. This meeting will be held at the CAISO's facility, located at 151 Blue Ravine Road, Folsom, CA 95630.

Sponsored by the CAISO, the meeting is open to the public, and staff's attendance is part of the Commission's ongoing outreach efforts. The meeting may discuss matters at issue in Docket No. ER02-1656-000.

For further information, contact Katherine Gensler at katherine.gensler@ferc.gov; (916) 294-0275.

Linda Mitry,
Deputy Secretary.

[FR Doc. E5-4430 Filed 8-15-05; 8:45 am]

BILLING CODE 6717-01-P